DEPARTMENT OF ENERGY

Federal Energy Regulatory Commission

Combined Notice of Filings #1

Take notice that the Commission received the following electric corporate filings:

Docket Numbers: EC17-40-000.

Applicants: Heartland Energy Group, Inc., Interstate Power and Light Company.

Description: Application of Interstate Power and Light Company, et al. for transaction approval pursuant to Federal Power Act Section 203.

Filed Date: 11/29/16.

Accession Number: 20161129-5236.

Comments Due: 5 p.m. ET 12/20/16.

Take notice that the Commission received the following electric rate filings:

Docket Numbers: ER15-2254-003.

Applicants: Scrubgrass Generating Company, L.P.

Description: Compliance filing: Informational Filing to be effective N/A.

Filed Date: 11/29/16.

Accession Number: 20161129-5103.

Comments Due: 5 p.m. ET 12/20/16.

Docket Numbers: ER16-1213-001.

Applicants: New York Independent System Operator, Inc.

Description: Compliance filing: Compliance effective date notice of BTM-NG tariff revisions to be effective 12/13/2016.

Filed Date: 11/29/16.

Accession Number: 20161129-5213.

Comments Due: 5 p.m. ET 12/20/16.

Docket Numbers: ER16-1738-001.

Applicants: Beacon Solar 4, LLC.

Description: Compliance filing: Beacon Solar 4, LLC MBR Tariff to be effective 7/18/2016.

Filed Date: 11/29/16.

Accession Number: 20161129-5151.

Comments Due: 5 p.m. ET 12/20/16.

Docket Numbers: ER16-2010-001.

Applicants: Hancock Wind, LLC.

Description: Notice of Non-Material Change in Status of Hancock Wind, LLC.

Filed Date: 11/28/16.

Accession Number: 20161128-5275.

Comments Due: 5 p.m. ET 12/19/16.

Docket Numbers: ER17-366-001.

Applicants: Southwest Power Pool, Inc.

Description: Tariff Amendment: Amended Filing-Revisions to Prospectively Require All VERs to Register as DVERs to be effective 1/15/2017.

Filed Date: 11/29/16.

Accession Number: 20161129-5142.

Comments Due: 5 p.m. ET 12/20/16.

Docket Numbers: ER17-420-000.

Applicants: Northern States Power Company, a Minnesota corporation.

Description: § 205(d) Rate Filing: 2016-11-28 553, 554, & 565-NSP NOC Filing to be effective 11/29/2016.

Filed Date: 11/28/16.

Accession Number: 20161128-5223.

Comments Due: 5 p.m. ET 12/19/16.

Docket Numbers: ER17-421-000.

Applicants: Public Service Company of New Mexico.

Description: Tariff Cancellation: Notice of Cancellation of PPA between PNM and Jicarilla Apache Nation to be effective 11/30/2016.

Filed Date: 11/29/16.

Accession Number: 20161129-5152.

Comments Due: 5 p.m. ET 12/20/16.

Docket Numbers: ER17-422-000.

Applicants: Northern States Power Company, a Minnesota corporation.

Description: § 205(d) Rate Filing: 2016-11-29 CapX Brookings Filing to be effective 4/16/2016.

Filed Date: 11/29/16.

Accession Number: 20161129-5192.

Comments Due: 5 p.m. ET 12/20/16.

Docket Numbers: ER17-423-000.

Applicants: Rubicon NYP Corp.

Description: Baseline eTariff Filing: RubiconNYPinitialMBR to be effective 1/30/2017.

Filed Date: 11/29/16.

Accession Number: 20161129-5207.

Comments Due: 5 p.m. ET 12/20/16.

Docket Numbers: ER17-424-000.

Applicants: Footprint Power Salem Harbor Development LP.

Description: Baseline eTariff Filing: Application for Market Based Rate to be effective 11/30/2016.

Filed Date: 11/29/16.

Accession Number: 20161129-5252.

Comments Due: 5 p.m. ET 12/20/16.

Docket Numbers: ER17-425-000.

Applicants: Southern California Edison Company.

Description: § 205(d) Rate Filing: DSA SunSelect Produce (California), Inc. Project SA No. 918 to be effective 1/29/2017.

Filed Date: 11/29/16.

Accession Number: 20161129-5253.

Comments Due: 5 p.m. ET 12/20/16.

Docket Numbers: ER17-426-000.

Applicants: Southwest Power Pool, Inc.

Description: § 205(d) Rate Filing: Missouri River Energy Services Member Formula Rate (Denison) to be effective 2/1/2017.

Filed Date: 11/29/16.

Accession Number: 20161129-5263.

Comments Due: 5 p.m. ET 12/20/16.

Take notice that the Commission received the following electric reliability filings:

Docket Numbers: RD17-2-000.

Applicants: North American Electric Reliability Corporation.

Description: Petition of the North American Electric Reliability Corporation for Approval of Interpretation of Reliability Standard CIP-002-5.1a.

Filed Date: 11/28/16.

Accession Number: 20161128-5254.

Comments Due: 5 p.m. ET 12/20/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 29, 2016.
Nathaniel J. Davis, Sr.,
Deputy Secretary.

[FR Doc. 2016-29098 Filed 12-2-16; 8:45 am]

BILLING CODE 6717-01-P